DEPARTMENT OF TRANSPORTATION

Federal Highway Administration

Environmental Impact Statement: Atlanta, GA

AGENCY: Federal Highway Administration (FHWA), Georgia Department of Transportation (GDOT).

ACTION: Notice of intent.

SUMMARY: The FHWA is issuing this notice to advise the public that an environmental impact statement will be prepared for the “Northern Arc,” a proposed west-east connector between U.S. 411 in Bartow County, Georgia and S.R. 400 in Forsyth County, Georgia.

FOR FURTHER INFORMATION CONTACT: Ms. Jennifer Giersch, Environmental Coordinator, Federal Highway Administration, Atlanta Federal Center, 61 Forsyth Street, SW., Suite 17T100, Atlanta, GA 30303-3104, Telephone (404) 562-3653; or Mr. Harvey Keepler, State Environmental/Location Engineer, Georgia Department of Transportation, Office of Environment/Location, 3993 Aviation Circle, Atlanta, Georgia 30336, Telephone (404) 699-4400; or Northern Arc Information Line, Telephone (770) 455-1946, Email info@northernarc.com.

SUPPLEMENTARY INFORMATION: The FHWA, in cooperation with the GDOT, will prepare an Environmental Impact Statement (EIS) on a proposal to construct a four-lane, limited access highway located between U.S. 411 in Bartow County and S.R. 400 in Forsyth County, a distance of approximately 50 miles. The proposed project is necessary to provide a new facility to mitigate existing and projected traffic congestion for west-east traffic on S.R. 20 and other existing facilities in Bartow, Cherokee, and Forsyth Counties.

Letters describing the proposed action and soliciting comments will be sent to appropriate Federal, State, and local agencies. A public hearing will be held and a public notice will be given of the time and place of the hearing.

To ensure that the full range of issues related to this proposed project are addressed and all significant issues identified in the EIS, comments and suggestions are invited from all interested parties. Comments or questions concerning this proposed action should be directed to the FHWA at the address provided above.

(Catalog of Federal Domestic Assistance Program Number 20.205, Highway Research, Planning and Construction. Georgia's approved clearinghouse review procedures apply to this program.)

Issued on September 7, 2000.
Jennifer Giersch,
Environmental Coordinator, Atlanta, Georiga.

[FR Doc. 00-23723 Filed 9-15-00; 8:45 am]

BILLING CODE 4910-22-M